DEPARTMENT OF COMMERCE

International Trade Administration

[A-588-046]

Notice of Rescission of Antidumping Duty Administrative Review: Polychloroprene Rubber from Japan

AGENCY: Import Administration, International Trade Administration, Department of Commerce.

ACTION: Notice of Rescission of Antidumping Duty Administrative Review.

SUMMARY: On January 22, 2004, pursuant to a request made by Showa Denko Elastomers, K.K. and Showa Denko K.K. (SDEL/SDK), the Department of Commerce (the Department) initiated an administrative review of the antidumping duty finding on polychloroprene rubber (PR) from Japan. On January 30, 2004, SDEL/SDK withdrew its request for an administrative review of PR from Japan. The Department is now rescinding the administrative review of the antidumping duty finding on PR from Japan.

EFFECTIVE DATE: February 11, 2004.

FOR FURTHER INFORMATION CONTACT: Zev Primor or Maisha Cryor, AD/CVD Enforcement, Group II, Office 4, Import Administration, International Trade Administration, U.S. Department of Commerce, 14th Street and Constitution Avenue, NW., Washington, DC 20230; telephone (202) 482-4114 or (202) 482-5831, respectively.

SUPPLEMENTARY INFORMATION:

Background

On December 6, 1973, the U.S. Treasury Department published in the Federal Register (38 FR 33593) the antidumping duty finding on PR from Japan. On December 17, 2003, SDEL/SDK requested an administrative review of PR from Japan; on January 22, 2004, the Department initiated an administrative review of the antidumping finding on PR from Japan. See Initiation of Antidumping and Countervailing Duty Administrative Reviews and Request for Revocation in Part, 69 FR 3117 (January 22, 2004). On January 30, 2004, SDEL/SDK withdrew their request for review.

Scope of Review

Imports covered by this review are shipments of PR, an oil resistant synthetic rubber also known as polymerized chlorobutadiene or neoprene, currently classifiable under items 4002.41.00, 4002.49.00, 4003.00.00 of the Harmonized Tariff Schedule of the United States (HTSUS). HTSUS item numbers are provided for convenience and customs purposes. The written description remains dispositive.

Rescission of Review

Section 351.213(d)(1) of the Department's regulations provides that a party that requests an administrative review may withdraw the request within 90 days after the date of publication of the notice of initiation of the requested administrative review. The Department is rescinding the administrative review of the finding on PR from Japan for the period December 1, 2002, through November 30, 2003, because the requesting party has withdrawn its request for this administrative review within the 90-day time limit, and no other interested parties have requested a review of PR from Japan for this time period.

This notice is in accordance with section 777(i)(1) of the Tariff Act of 1930, as amended, and 19 CFR 251.213(d)(4).

Dated: February 5, 2004.
Holly A. Kuga,
Acting Deputy Assistant Secretary for Import Administration.

[FR Doc. 04-3000 Filed 2-10-04; 8:45 am]

BILLING CODE 3510-DS-S